DEPARTMENT OF TRANSPORTATION

Federal Aviation Administration

14 CFR Part 39

[Docket No. 2001-NE-10-AD]

RIN 2120-AA64

Airworthiness Directives; Turbomeca S.A. Arriel Models 2 S1, 2 B, and 2 C Turboshaft Engines

AGENCY: Federal Aviation Administration, DOT.

ACTION: Notice of proposed rulemaking (NPRM).

SUMMARY: The Federal Aviation Administration (FAA) proposes to adopt a new airworthiness directive (AD) that is applicable to Turbomeca S.A. Arriel models 2 S1, 2 B, and 2 C turboshaft engines. This proposal would require initial and repetitive visual inspections for fuel leaks, and replacement of fuel pumps that are found leaking fuel. In addition, this proposal would require removal from service fuel pumps that are found with pump wall thickness below minimum. This proposal is prompted by a manufacturing investigation of pump bodies found to have below minimum material thickness, which could cause fuel leakage through thin, porous walls, reducing fuel pump fire resistance. The actions specified by the proposed AD are intended to prevent fuel leakage, which may cause engine fires that could lead to an in-flight engine shutdown, damage to the helicopter, and forced landing.

DATES: Comments must be received by April 12, 2002.

ADDRESSES: Submit comments in triplicate to the Federal Aviation Administration (FAA), New England Region, Office of the Regional Counsel, Attention: Rules Docket No. 2001-NE-10-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in the proposed rule may be obtained from Turbomeca, 40220 Tarnos, France; telephone (33) 05 59 64 40 00; fax (33) 05 59 64 60 80. This information may be examined, by appointment, at the FAA, New England Region, Office of the Regional Counsel, 12 New England Executive Park, Burlington, MA.

FOR FURTHER INFORMATION CONTACT: James Rosa, Aerospace Engineer, Engine Certification Office, FAA, Engine and Propeller Directorate, 12 New England Executive Park, Burlington, MA 01803-5299; telephone: (781) 238-7152; fax: (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-10-AD.” The postcard will be date stamped and returned to the commenter.

Availability of NPRM's

Any person may obtain a copy of this NPRM by submitting a request to the FAA, New England Region, Office of the Regional Counsel, Attention: Rules Docket No. 2001-NE-10-AD, 12 New England Executive Park, Burlington, MA 01803-5299.

Discussion

The Direction Generale de L'Aviation Civile (DGAC), which is the airworthiness authority for France, has notified the FAA that an unsafe condition may exist on Turbomeca S.A. Arriel models 2 S1, 2 B, and 2 C turboshaft engines. The DGAC advises that it has received a manufacturer's report of 44 fuel metering HP/LP fuel pump assemblies that are suspected to have pump body material wall thickness being below the minimum material thickness. This condition, if not corrected, may cause fuel leakage, which may cause engine fires that could lead to an in-flight engine shutdown, damage to the helicopter, and forced landing.

Manufacturer's Service Information

Turbomeca has issued Service Bulletin (SB) No. 292 73 2803, dated July 2, 1999, that specifies procedures for initial and repetitive visual inspection for fuel leaks and serial number records inspections to locate 44 fuel metering HP/LP pump assemblies. These assemblies are suspected of having pump body material wall thickness below minimum material thickness and require initial and repetitive visual inspections, plus terminating action in the form of pump replacement or confirmation of correct pump body material wall thickness. The DGAC classified this service bulletin as mandatory and issued AD 99-285(A) in order to assure the airworthiness of these engines in France.

Bilateral Agreement Information

This engine model is manufactured in France and is type certificated for operation in the United States under the provisions of § 21.29 of Title 14 of the Code of Federal Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Proposed Requirements of This AD

Since an unsafe condition has been identified that is likely to exist or develop on other Turbomeca S.A. Arriel models 2 S1, 2 B, and 2 C turboshaft engines of the same type design that are used on helicopters registered in the United States, the proposed AD would require initial and repetitive visual inspections for fuel leaks, and replacement of fuel pumps that are found leaking fuel. In addition, this proposal would require removal from service fuel pumps that are found with pump wall thickness below minimum. This proposal would also require that pumps with correct body material wall thickness have the letter “x” added to the end of the SN on the pump. Except for the letter “x” marking, the actions would be required to be done in accordance with the service bulletin described previously.

Economic Analysis

There are approximately 44 engines of the affected design in the worldwide fleet. It is unknown by the FAA how many engines are installed on aircraft of U.S. registry that would be affected by this proposed AD. The FAA estimates that it would take approximately 1.5 work hours per engine to accomplish the proposed actions, and that the average labor rate is $60 per work hour. Required parts would cost approximately $59,000 per engine. Based on these figures, the total cost effect of the proposed AD is estimated to be $59,090 per engine. Assuming all 44 engines are installed on aircraft of U.S. registry, the total cost effect is estimated to be $2,599,960. The manufacturer has advised the DGAC that affected pumps may be exchanged free of charge, thereby substantially reducing the potential cost effect of this proposed rule.

Regulatory Impact

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Turbomeca: Docket No. 2001-NE-10-AD.

Applicability: This airworthiness directive (AD) is applicable to Turbomeca S.A. Arriel models 2 S1, 2 B, and 2 C turboshaft engines. These engines are installed on, but not limited to Sikorsky S76, Eurocopter France “Ecureuil” AS 350 B3, and Eurocopter France “Dauphin” AS 365 N3 helicopters.

Note 1: This AD applies to each engine identified in the preceding applicability provision, regardless of whether it has been modified, altered, or repaired in the area subject to the requirements of this AD. For engines that have been modified, altered, or repaired so that the performance of the requirements of this AD are affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Compliance with this AD is required as indicated, unless already done.

To prevent fuel leakage, which may cause engine fires that could lead to an in-flight engine shutdown, damage to the helicopter, and forced landing, do the following:

Inspections and Actions

(a) For the fuel metering high pressure/low pressure (HP/LP) pump assemblies listed by serial number (SN) in Appendix 1 of Turbomeca Service Bulletin (SB) No. 292 73 2803, dated July 2, 1999, do the following:

(1) After the last flight of each day, within five minutes of engine shutdown, perform a visual inspection of the floor of the helicopter engine bay for fuel leaks.

(2) If evidence of a fuel leak is observed, inspect the fuel metering HP/LP pump assembly for leakage and if leakage is observed, replace with a serviceable pump assembly before further flight.

(3) If visual inspection of the floor of the helicopter engine bay for fuel leaks reveals no leaks, do either of the following:

(i) Continue repetitive visual inspections of the floor of the helicopter engine bay for fuel leaks in accordance with paragraph (a)(1) of this AD, and perform repetitive visual inspections of the fuel metering HP/LP pump assembly for fuel leaks at intervals not to exceed 50 hours of operation. If evidence of fuel leaking is observed, replace the pump assembly with a serviceable pump assembly before further flight, in accordance with Turbomeca SB No. 292 73 2803, dated July 2, 1999; or

(ii) Remove the pump assembly and inspect to determine if pump body material wall thickness is below the minimum material thickness, in accordance with Section 2 of Turbomeca SB No. 292 73 2803, dated July 2, 1999. If pump body material wall thickness is at or above the minimum material thickness, mark the pump assembly by adding a letter “x” to the end of the SN.

(b) Replace the fuel metering HP/LP pump assembly if listed by SN in Appendix 1 of Turbomeca Service Bulletin (SB) No. 292 73 2803, dated July 2, 1999, with a serviceable pump assembly by December 31, 2006.

Definition

(c) For the purposes of this AD, a serviceable pump assembly is a fuel metering HP/LP pump assembly not listed by SN in Appendix 1 of Turbomeca SB No. 292 73 2803, dated July 2, 1999, or a fuel metering HP/LP pump assembly listed by SN in Appendix 1 whose pump body material wall thickness has been determined by inspection to be at or above the minimum material thickness, and marked in accordance with paragraph (a)(3)(ii) of this AD.

Terminating Action

(d) Replacement, or verification of correct wall thickness of a fuel metering HP/LP pump assembly that is listed in Appendix 1 of Turbomeca SB No. 292 73 2803, dated July 2, 1999, with a serviceable pump assembly as defined in paragraph (c) of this AD, is considered terminating action for the inspection requirements specified in paragraph (a) of this AD.

Alternative Methods of Compliance

(e) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(f) Special flight permits may be issued in accordance §§ 21.197 and 21.199 of the Federal Aviation Regulations (14 CFR 21.197 and 21.199) to operate the helicopter to a location where the requirements of this AD can be done.

Note 3: The subject of this AD is addressed in Direction Generale de L'Aviation Civile (DGAC) Airworthiness Directive AD 99-285(A), dated July 13, 1999.

Issued in Burlington, Massachusetts, on February 1, 2002.
Jay J. Pardee,
Manager, Engine and Propeller Directorate, Aircraft Certification Service.

[FR Doc. 02-3160 Filed 2-8-02; 8:45 am]

BILLING CODE 4910-13-U